DEPARTMENT OF JUSTICE

Antitrust Division

Notice Pursuant to the National Cooperative Research and Production Act of 1993—Recreational Off-Highway Vehicle Association

Notice is hereby given that, on March 26, 2021, pursuant to Section 6(a) of the National Cooperative Research and Production Act of 1993, 15 U.S.C. 4301 et seq. (“the Act”), Recreational Off-Highway Vehicle Association (“ROHVA”) has filed written notifications simultaneously with the Attorney General and the Federal Trade Commission disclosing changes in its nature and objective. The notifications were filed for the purpose of extending the Act's provisions limiting the recovery of antitrust plaintiffs to actual damages under specified circumstances. Pursuant to the Act, the name and principal place of business of the standards development organization is: Recreational Off-Highway Vehicle Association, 2 Jenner, Suite 150, Irvine, CA 92618. The nature and scope of ROHVA's standards development activities are: Maintenance to and revision of a voluntary standard (ANSI/ROHVA 1-2016) addressing design, configuration and performance aspects of Recreational Off-Highway Vehicles (ROVs).

Also, ROHVA is including its members, American Honda Motor Co., Inc. (Torrance, CA); BRP, Inc. (Valcourt, Quebec); Kawasaki Motors Corp., U.S.A. (Irvine, CA); Mahindra Vehicle Sales and Services, Inc. (Auburn Hills, MI); Polaris Inc. (Medina, MN); Textron Specialized Vehicles (Augusta, GA); and Yamaha Motor Corporation, U.S.A. (Cypress, CA), in this notice.

On June 23, 2008, ROHVA filed its original notification pursuant to Section 6(a) of the Act. The Department of Justice published a notice in the Federal Register pursuant to Section 6(b) of the Act on July 29, 2008 (73 FR 43952).

The last notification was filed with the Department on December 5, 2013. A notice was published in the Federal Register pursuant to Section 6(b) of the Act on January 17, 2014 (79 FR 3253).

Suzanne Morris,
Chief, Premerger and Division Statistics, Antitrust Division.

[FR Doc. 2021-09899 Filed 5-10-21; 8:45 am]

BILLING CODE 4410-11-P